NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by June 18, 2014. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant

Dr. Rachael Morgan-Kiss, 32 Pearson Hall, 701E High St., Department of Microbiology, Miami University, Oxford, OH, 45056.

Permit Application: 2015-002

Activity for Which Permit Is Requested

Introduce non-indigenous species into Antarctica; The applicant proposes to bring 10g cell pellets of algae cultures (Chlamydomonas ICE sp. and Isochyrsis MDV sp.), originally collected from Antarctica, for use in experiments to link their understanding of physiological responses in this organism in a laboratory setting with in situ physiological responses and to determine whether each organism is more competitive under limited nutrients (ie., shallow water) or limited light (ie., deep water). The algal pellets will be used to grow algae cultures which will be transferred to dialysis tubing at the Lake Bonney field camp. The dialysis chambers will be suspended in the Lake Bonney water column. Once samples are collected they will be processed either on site at the Lake Bonney field camp or at Crary Lab at McMurdo Station, resulting in the death of all cells. The cells will be processed in a variety of ways for different analyses back in the U.S. Any remaining viable cultures will be autoclaved to ensure 100% mortality of unused cultures.

Location

Lake Bonney in McMurdo Dry Valleys ASMA 2, and Crary Laboratory at McMurdo Station.

Dates

November 14 to December 3, 2014.

Nadene G. Kennedy,
Polar Coordination Specialist, Division of Polar Programs.

[FR Doc. 2014-11512 Filed 5-16-14; 8:45 am]

BILLING CODE 7555-01-P